DEPARTMENT OF DEFENSE

Office of the Secretary

[Docket ID: DoD-2013-OS-0225]

Privacy Act of 1974; System of Records

AGENCY: Office of the Secretary of Defense, DoD.

ACTION: Notice to alter a System of Records.

SUMMARY: The Office of the Secretary of Defense proposes to alter a system of records, DWHS P37, entitled “Grievance and Unfair Labor Practices Records, in its inventory of record systems subject to the Privacy Act of 1974, as amended. These records are used in the administration, processing, and resolution of unfair labor complaints, grievance arbitrations, negotiability, and representation issues.

DATES: This proposed action will be effective on January 6, 2014 unless comments are received which result in a contrary determination. Comments will be accepted on or before January 6, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html.

The proposed system report, as required by U.S.C. 552a(r) of the Privacy Act of 1974, as amended, was submitted on November 7, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 2, 2013.
Aaron Siegel,
Alternate OSD Federal Register Liaison Officer, Department of Defense.

DWHS P37

System name:

Grievance and Unfair Labor Practices Records (October 27, 2011, 76 FR 66696).

Changes:

System name:

Delete entry and replace with “Grievance and Unfair Labor Practice Records.”

System location:

Delete entry and replace with “Labor and Management Employee Relations Division, Human Resources Directorate, Washington Headquarters Services, 4800 Mark Center Drive, Alexandria, VA 22350-3200.”

* * * * *

Authority for maintenance of the system:

Delete entry and replace with “5 U.S.C. 7121, Grievance Procedures; DoD Instruction 1400.25-V771, DoD Civilian Personnel Management System (Administrative Grievance System); Washington Headquarters Services Administrative Instruction 37, Employee Grievances; and E.O. 9397 (SSN), as amended.”

* * * * *

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To officials of labor organizations reorganized under the Civil Service Reform Act when relevant and necessary to the performance of their exclusive representation duties concerning personnel policies, practices, and matters affecting working conditions.

To representatives of the Office of Personnel Management (OPM) in matters relating to the inspection, survey, audit, or evaluation of civilian personnel management programs.

To the Comptroller General, or any of his or her authorized representatives, in the course of the performance of duties of the Government Accountability Office relating to the Labor-Management Relations Program.

To arbitrators, examiners, or other third parties appointed to inquire into or adjudicate labor-management issues.

The DoD Blanket Routine Uses set forth at the beginning of the Office of the Secretary of Defense compilation of systems of notices also may apply to this system of records.”

* * * * *

Retrievability:

Delete entry and replace with “Name of individual initiating grievance procedures and case number.”

* * * * *

System manager(s) and address:

Delete entry and replace with “Assistant Director, Labor and Management Employee Relations Division, Human Resources Directorate, Washington Headquarters Services, 4800 Mark Center Drive, Alexandria, VA 22350-3200.”

Notification procedure:

Delete entry and replace with “Individuals seeking to determine whether information about themselves is contained in this system should address written inquiries to the Assistant Director, Labor and Management Employee Relations Division, Human Resources Directorate, Washington Headquarters Services, 4800 Mark Center Drive, Alexandria, VA 22350-3200.

Signed, written requests should include name, case number, current address, and telephone number.”

Record access procedures:

Delete entry and replace with “Individuals seeking access to information about themselves contained in this system should address written inquiries to the Office of the Secretary of Defense/Joint Staff Freedom of Information Act Requester Service Center, Office of Freedom of Information, 1155 Defense Pentagon, Washington, DC 20301-1155.

Signed, written requests should include the name, case number, current address, telephone number, and number of this system of records notice.”

* * * * *

Record source categories:

Delete entry and replace with “The individual or individuals, or management officials involved with the incident leading to the adjudication of a grievance or unfair labor practice charges, Washington Headquarters Service Labor and Management Employee Relations personnel, the Arbitrators office, the Federal Labor Relations Authority Headquarters and Regional Offices, and union officials.”

* * * * *

[FR Doc. 2013-29101 Filed 12-5-13; 8:45 am]

BILLING CODE 5001-06-P